DEPARTMENT OF COMMERCE

Bureau of Industry and Security

15 CFR Parts 736, 744, and 774

[Docket No. 240923-0250]

RIN 0694-AI35

Export Administration Regulations: Crime Controls and Expansion/Update of U.S. Persons Controls; Extension of Comment Period

AGENCY: Bureau of Industry and Security, Department of Commerce.

ACTION: Proposed rule; extension of comment period.

SUMMARY: On July 29, 2024, the Bureau of Industry and Security (BIS) published in the Federal Register a proposed rule, “Export Administration Regulations: Crime Controls and Expansion/Update of U.S. Persons Controls” with comments originally due September 27, 2024. This notification extends the deadline for written comments to October 15, 2024. This extension is being made to allow for commenters to have additional time to review the proposed rule and to benefit from the significant amount of public outreach that BIS is conducting on the rule in preparing their comments. Extending the public comment period will not in any way undermine the rule or national security of the United States.

DATES: The comments period for the proposed rule published July 29, 2024, at 89 FR 60998 is extended. Comments must be received by BIS no later than October 15, 2024.

ADDRESSES: Comments on this rule may be submitted to the Federal rulemaking portal (www.regulations.gov). The regulations.gov ID for the rule entitled “Export Administration Regulations: Crime Controls and Expansion/Update of U.S. Persons Controls” is BIS-2023-0006. Please refer to RIN 0694-AI35 in all comments.

All filers using the portal should use the name of the person or entity submitting the comments as the name of their files, in accordance with the instructions below. Anyone submitting business confidential information should clearly identify the business confidential portion at the time of submission, file a statement justifying nondisclosure and referring to the specific legal authority claimed, and provide a non-confidential version of the submission. For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” Any submissions with file names that do not begin with either a “BC” or a “P” will be assumed to be public and will be made publicly available through https://www.regulations.gov. Commenters submitting business confidential information are encouraged to scan a hard copy of the non-confidential version to create an image of the file, rather than submitting a digital copy with redactions applied, to avoid inadvertent redaction errors which could enable the public to read business confidential information.

FOR FURTHER INFORMATION CONTACT: For questions specific to the human rights or foreign-security end-user provisions set forth in the rule entitled, “Export Administration Regulations: Crime Controls and Expansion/Update of U.S. Persons Controls” contact Anthony Christino, Director Human Rights and Embargoes Division, Anthony.Christino@bis.doc.gov, Phone: (202) 482-3241. For general questions, contact Hillary Hess, Director Regulatory Policy Division, rpd2@bis.doc.gov. Include, “Human Rights End Users” on subject line of emails. Phone: (202) 482-2440.

SUPPLEMENTARY INFORMATION:

Background

On July 29, 2024, the Bureau of Industry and Security (BIS) published in the Federal Register a proposed rule entitled, “Export Administration Regulations: Crime Controls and Expansion/Update of U.S. Persons Controls” (89 FR 60998), which proposed to establish certain Foreign-Security End User (FSEU) and “U.S. persons” activities controls and Commerce Control List-based (CCL) controls. The proposed additions of the foreign-security end user control and “U.S. persons” activities controls would implement expanded authority under the Export Control Reform Act of 2018 (ECRA), as amended, to control certain “U.S. persons” activities under the EAR. BIS is proposing amendments to control “support” furnished by “U.S. persons” to identified FSEUs. In addition, BIS is proposing to add to the CCL two new unilateral item controls on facial recognition technology.

In response to requests from the regulated community, the Department of Commerce is extending the comment period for 15 days.

* * * * *

Thea D. Rozman Kendler,
Assistant Secretary for Export Administration.

[FR Doc. 2024-22145 Filed 9-24-24; 4:15 pm]

BILLING CODE 3510-33-P